DEPARTMENT OF TRANSPORTATION

Federal Aviation Administration

Agency Information Collection Activities: Requests for Comments; Clearance of Renewed Approval of Information Collection: Requests for Comments; Clearance of Renewed Approval of Information Collection: Aircraft Noise Certification Documents for International Operations

AGENCY: Federal Aviation Administration (FAA), DOT.

ACTION: Notice and request for comments.

SUMMARY: In accordance with the Paperwork Reduction Act of 1995, FAA invites public comments about our intention to request the Office of Management and Budget (OMB) approval to renew a previously approved information collection. This collection ensures that U.S. operators have proper noise certification information when they fly outside the U.S.

DATES: Written comments should be submitted by September 25, 2017.

ADDRESSES: Interested persons are invited to submit written comments on the proposed information collection to the Office of Information and Regulatory Affairs, Office of Management and Budget. Comments should be addressed to the attention of the Desk Officer, Department of Transportation/FAA, and sent via electronic mail to oira_submission@omb.eop.gov, or faxed to (202) 395-6974, or mailed to the Office of Information and Regulatory Affairs, Office of Management and Budget, Docket Library, Room 10102, 725 17th Street NW., Washington, DC 20503.

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

FOR FURTHER INFORMATION CONTACT: Barbara Hall at Barbara.L.Hall@faa.gov or (817) 222-5448.

SUPPLEMENTARY INFORMATION:

OMB Control Number: 2120-0737.

Title: Aircraft Noise Certification Documents for International Operations.

Form Numbers: There are no FAA forms associated with this collection.

Type of Review: Performance and Handling Requirements for Rotocraft.

Background: The Federal Register Notice with a 60-day comment period soliciting comments on the following collection of information was published on June 19, 2017 (82 FR 27947). There were no comments. 14 CFR part 91 requires operators of U.S. registered civil aircraft flying outside the United States to carry aircraft noise certification information on board. This rule is needed to ensure consistent compliance with the ICAO, Annex 16, Volume 1, Amendment 8 that requires certain noise information be carried on board the aircraft. The rule requires that this information be easily accessible to the flight crew and presentable upon request to the appropriate foreign officials.

Respondents: Approximately 73 operators of aircraft currently registered to U.S. mainline air carriers.

Frequency: On occasion.

Estimated Average Burden per Response: 25 minutes.

Estimated Total Annual Burden: 31 hours.

Issued in Washington, DC on August 21, 2017.
Ronda L. Thompson,
FAA Information Collection Clearance Officer, Performance, Policy & Records Management Branch, ASP-110.

[FR Doc. 2017-17993 Filed 8-24-17; 8:45 am]

BILLING CODE 4910-13-P